DEPARTMENT OF ENERGY

Federal Energy Regulatory Commission

[Docket No. IC20-10-000]

Commission Information Collection Activities (FERC Form Nos. 2 and 2-A); Comment Request; Extension; Errata Notice

AGENCY: Federal Energy Regulatory Commission, DOE.

ACTION: Notice of information collection; errata notice.

SUMMARY: This notice corrects the 60-day notice published on April 30, 2020 (85 FR 23954), 30-day notice published on July 20, 2020 (85 FR 43831), and the errata notice published on September 14, 2020 (85 FR 56597).

DATES: Comments for the notice of information collection, were due October 14, 2020 (85 FR 56597).

SUPPLEMENTARY INFORMATION:

Title: FERC Form No. 2, Annual Report for Major Natural Gas Companies, and FERC Form No. 2-A, Annual Report for Non-Major Natural Gas Companies.

OMB Control Nos.: 1902-0028 (FERC Form No. 2), and 1902-0030 (FERC Form No. 2-A).

This notice replaces and corrects the 60-day notice published on April 30, 2020 (85 FR 23954), 30-day notice published on July 20, 2020 (85 FR 43831) and the errata notice published on September 14, 2020 (85 FR 56597). No public comments were received on either the 60-day notice or the 30-day notice.

The burden and cost estimates are being corrected to remove an erroneous double entry representing the industry burden of preparing and submitting in XBRL carried over from RM19-12 (approved by OMB in September 2019). The Commission is correcting the estimates for the annual public reporting burden and cost ¹ for the information collections as shown in the table pertaining to the rows for both Form Nos. 2 and 2-A labelled “Burden to Prepare and Submit in XBRL (represented using the same number of respondents and responses normally received annually).” The burden hours per response for FERC Form No. 2 are being corrected for a total of 1,671.6 burden hours (1,629 burden hours for the reporting requirements plus 42.66 burden hours for the XBRL implementation and maintenance). These corrections remove an erroneous double entry of 42.66 hours for the XBRL implementation and development requirements. In addition, the burden hours per response for FERC Form No. 2-A are being similarly corrected for a total of 296 burden hours (253 burden hours for the reporting requirement plus 42.66 burden hours for the XBRL implementation and maintenance).

¹ The Commission staff believes the FERC FTE (full-time equivalent) average cost for wages plus benefits is representative of the corresponding cost for the industry respondents. Based upon the FERC's 2019 average cost for salary plus benefits, the average hourly cost is $80/hour.

In summary, the existing row pertaining to the “Burden to Comply with the Filing Requirement” inadvertently included the additional burden related to XBRL implementation and maintenance that was also listed in a separate row. Accordingly, to correct this erroneous double entry, we are removing 42.66 burden hours from the row titled “Burden to Comply with Filing Requirement” and from the total burden hours for each response for FERC Form Nos. 2 and 2-A.

Dated: March 31, 2021.
Kimberly D. Bose,
Secretary.

[FR Doc. 2021-07080 Filed 4-5-21; 8:45 am]

BILLING CODE 6717-01-P